DEPARTMENT OF ENERGY

Federal Energy Regulatory Commission

[Project No. 7019-068]

Eastern Hydroelectric Corporation; Notice Rejecting Request for Rehearing

On December 7, 2012, Commission staff issued an order amending license Article 401 for Eastern Hydroelectric Corporation's (Eastern Hydroelectric) East Juliette Project No. 7019, located on the Ocmulgee River in East Juliette, Jones County, Georgia.¹ On January 11, 2013, Eastern Hydroelectric filed a request for rehearing of Commission staff's order.

¹ Eastern Hydroelectric Corp., 141 FERC ¶ 62,176 (2012).

Pursuant to section 313(a) of the Federal Power Act (FPA),² an aggrieved party must file a request for rehearing within thirty days after the issuance of a Commission decision, in this case no later than January 7, 2013.³ Because the 30-day rehearing deadline is statutorily based, it cannot be extended, and the request for rehearing filed by petitioner must be rejected as untimely.⁴ Furthermore, petitioner's failure to file a timely request for rehearing constitutes acceptance of Commission staff's order.⁵

² 16 U.S.C. 825l (2006).

³ See 18 CFR 385.2007 (2012) (stating that if the last day of any time period is a Sunday, the period does not end until the close of the Commission's business on the next business day).

⁴ In addition, the pleading as filed is deficient, and subject to dismissal, because it failed to include a Statement of Issues, as required by section 385.713(c)(2) of the Commission's regulations, 18 CFR 385.713(c)(2) (2012).

⁵ See Eastern Hydroelectric, 141 FERC ¶ 62,176 (2012) at Ordering Paragraph (I).

This notice constitutes final agency action. Requests for rehearing by the Commission of this rejection must be filed within 30 days of the date of issuance of this notice pursuant to section 313(a) of the Federal Power Act, 16 U.S.C. 825l (2006), and section 385.713 of the Commission's regulations, 18 CFR 385.713 (2012).

Dated: January 17, 2013.
Kimberly D. Bose,
Secretary.

[FR Doc. 2013-01914 Filed 1-29-13; 8:45 am]

BILLING CODE 6717-01-P